DEPARTMENT OF ENERGY

Federal Energy Regulatory Commission

Combined Notice of Filings #1

Take notice that the Commission received the following electric rate filings:

Docket Numbers: ER19-2065-001.

Applicants: Midcontinent Independent System Operator, Inc. Ameren Illinois Company.

Description: Tariff Amendment: 2019-08-05 SA 2026 Ameren-Hannibal Substitute 2nd Rev WDS to be effective 12/31/9998.

Filed Date: 8/5/19.

Accession Number: 20190805-5053.

Comments Due: 5 p.m. ET 8/26/19.

Docket Numbers: ER19-2252-001.

Applicants: Stanton Energy Reliability Center, LLC.

Description: Tariff Amendment: SERC Amendment to Application for Market Based Rate Authorization to be effective 8/25/2019.

Filed Date: 8/5/19.

Accession Number: 20190805-5017.

Comments Due: 5 p.m. ET 8/26/19.

Docket Numbers: ER19-2529-000.

Applicants: Black Hills Wyoming, LLC.

Description: § 205(d) Rate Filing: Request for Authorization of Affiliate Transactions and Revisions to MBR Tariff to be effective 10/2/2019.

Filed Date: 8/2/19.

Accession Number: 20190802-5157.

Comments Due: 5 p.m. ET 8/23/19.

Docket Numbers: ER19-2531-000.

Applicants: DesertLink, LLC.

Description: § 205(d) Rate Filing: Amendments to DesertLinks Formula Rate Protocols and Template to be effective 8/2/2019.

Filed Date: 8/5/19.

Accession Number: 20190805-5038.

Comments Due: 5 p.m. ET 8/26/19.

Docket Numbers: ER19-2532-000.

Applicants: Duke Energy Progress, LLC.

Description: Tariff Cancellation: DEP-Notice of Cancellation of CIAC w/Fayetteville to be effective 10/5/2019.

Filed Date: 8/5/19.

Accession Number: 20190805-5052.

Comments Due: 5 p.m. ET 8/26/19.

Docket Numbers: ER19-2533-000.

Applicants: Vermont Transco LLC.

Description: Notice of Cancellation of executed Large Generator Interconnection Service Agreement No. 17 of Vermont Transco LLC.

Filed Date: 8/5/19.

Accession Number: 20190805-5068.

Comments Due: 5 p.m. ET 8/26/19.

Take notice that the Commission received the following qualifying facility filings:

Docket Numbers: QF19-1373-000; QF19-1374-000; QF19-1375-000; QF19-1376-000; QF19-1377-000; QF19-1378-000; QF19-1379-000; QF19-1380-000; QF19-1381-000; QF19-1382-000; QF19-1383-000; QF19-1384-000; QF19-1386-000; QF19-1387-000; QF19-1388-000; QF19-1389-000; QF19-1390-000; QF19-1391-000.

Applicants: WGL Energy Systems, Inc.

Description: Refund Report of WGL Energy Systems, Inc., et al.

Filed Date: 8/5/19.

Accession Number: 20190805-5031.

Comments Due: 5 p.m. ET 8/26/19.

Take notice that the Commission received the following PURPA 210(m)(3) filings:

Docket Numbers: QM19-3-000.

Applicants: Prairie Power, Inc.

Description: Supplement to July 11, 2019 Application of Prairie Power, Inc. to Terminate Mandatory PURPA Purchase Obligation.

Filed Date: 7/30/19.

Accession Number: 20190730-5128.

Comments Due: 5 p.m. ET 8/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 5, 2019.
Kimberly D. Bose,
Secretary.

[FR Doc. 2019-17045 Filed 8-8-19; 8:45 am]

BILLING CODE 6717-01-P